ENVIRONMENTAL PROTECTION AGENCY

40 CFR Part 300

[FRL-6913-2]

National Oil and Hazardous Substances Pollution Contingency Plan; National Priorities List

AGENCY: Environmental Protection Agency (EPA).

ACTION: Direct final deletion of the University of Minnesota Rosemount Research Center Superfund Site from the National Priorities List (NPL).

SUMMARY: EPA Region 5 announces the deletion of the University of Minnesota Rosemount Research Center Site (Site) from the National Priorities List (NPL) and requests public comment on this action. The NPL constitutes appendix B of 40 CFR Part 300 which is the National Oil and Hazardous Substance Pollution Continency Plan (NCP), which EPA promulgated pursuant to Section 105 of the Comprehensive Environmental Response, Compensation and Liability Act of 1980, as amended, (CERCLA). EPA and the Minnesota Pollution Control Agency (MPCA) have determined that the Site poses no significant threat to public health or the environment and, therefore, further remedial measures pursuant to CERCLA are not appropriate.

DATES: This “direct final” action will be effective February 6, 2001 unless EPA receives dissenting comments by January 8, 2001. If written dissenting comments are received, EPA will publish a timely withdrawal of the rule in the Federal Register informing the public that the rule will not take effect.

ADDRESSES: Comments may be mailed to Gladys Beard, Associate Remedial Project Manager, U.S. Environmental Protection Agency, Superfund Division, U.S. EPA, Region 5, 77 W. Jackson Blvd., (SR-6J), Chicago, IL 60604. Requests for comprehensive information on this Site is available through the public docket which is available for viewing at the Site Information Repository at the following location: The Minnesota Pollution Control Agency, Administrative Records, 520 Lafayette Road North, Saint Paul, Minnesota 55155-4184.

FOR FURTHER INFORMATION CONTACT: Gladys Beard (SR-6J), U.S. Environmental Protection Agency, 77 W. Jackson, Chicago, IL, (312) 886-7253, FAX (312) 886-4071, e-mail beard.gladys@epa.gov

SUPPLEMENTARY INFORMATION:

Table of Contents

I. Introduction

II. NPL Deletion Criteria

III. Deletion Procedures

IV. Basis of Intended Site Deletion

V. Action

I. Introduction

EPA Region 5 announces the deletion of the releases from the University of Minnesota Rosemont Research Center Site, Rosemount, Dakota County, Minnesota, from the National Priorities List (NPL), appendix B of the National Oil and Hazardous Substances Pollution Contingency Plan (NCP), 40 CFR Part 300. EPA identifies sites that appear to present a significant risk to public health, welfare, or the environment and maintains the NPL as the list of these sites. EPA and the State of Minnesota have determined that the remedial action for the Site has been successfully executed. EPA will accept comments on this notice thirty days after publication of this notice in the Federal Register.

Section II of this action explains the criteria for deleting sites from the NPL. Section III discusses the procedures that EPA is using for this action. Section IV discusses the history of the University of Minnesota Site and explains how the Site meets the deletion criteria. Section V states EPA's action to delete the releases of the Site from the NPL unless dissenting comments are received during the comment period.

II. NPL Deletion Criteria

Section 300.425(e) of the NCP provides that Sites may be deleted from, or recategorized on the NPL where no further response is appropriate. In making a determination to delete a release from the NPL, EPA shall consider, in consultation with the state, whether any of the following criteria has been met:

(i) Responsible parties or other persons have implemented all appropriate response actions required;

(ii) All appropriate Fund-financed responses under CERCLA have been implemented, and no further response action by responsible parties is appropriate; or

(iii) The remedial investigation has shown that the release poses no significant threat to public health or the environment and, therefore, taking of remedial measures is not appropriate.

Even if the release is deleted from the NPL, where hazardous substances, pollutants, or contaminants remain at the site above levels that allow for unlimited use and unrestricted exposure, EPA's policy is that a subsequent review of the Site will be conducted at least every five years after the initiation of the remedial action at the Site to ensure that the Site remains protective of public health and the environment. In the case of this Site, EPA conducted a Five-Year Review in June, 1997 and a second one is due June 2002. Based on these reviews, EPA determined that conditions at the Site remain protective of public health and the environment. As explained below, the Site meets the NCP's deletion criteria listed above. If new information becomes available which indicates a need for further action, EPA may initiate remedial actions. Whenever there is a significant release from a site deleted from the NPL, the site shall be restored to the NPL without the application of the Hazard Ranking System (HRS).

III. Deletion Procedures

The following procedures were used for the intended deletion of releases from the Site: (1) All appropriate response under CERCLA has been implemented and no further action by EPA is appropriate; (2) the Minnesota Pollution Control Agency concurred with the proposed deletion decision; (3) a notice has been published in the local newspaper and has been distributed to appropriate federal, state, and local officials and other interested parties announcing the commencement of a 30-day dissenting public comment period on EPA's Direct Final Action to Delete; and, (4) all relevant documents have been made available for public review in the local Site information repositories. EPA is requesting only dissenting comments on the Direct Final Action to Delete.

For deletion of releases from the Site, EPA's Regional Office will accept and evaluate public comments on EPA's Final Notice before making a final decision to delete. If necessary, the Agency will prepare a Responsiveness Summary, responding to each significant comment submitted during the public comment period. Deletion of the Site from the NPL does not itself create, alter, or revoke any individual's rights or obligations. The NPL is designed primarily for informational purposes and to assist Agency management. As mentioned in Section II of this document, § 300.425(e)(3) of the NCP states that the deletion of a release from a site from the NPL does not preclude eligibility for future response actions.

IV. Basis for Intended Site Deletion

The University of Minnesota Rosemount Research Center (UMRRC) is located within the city limits of Rosemount in Dakota County, approximately 20 miles southeast of the Minneapolis/St. Paul metropolitan area. The UMRRC covers approximately five square miles and is used by some light manufacturing and service companies. Within the confines of the UMRRC, the UMRRC Site consists of three industrial disposal sites: the George's Used Equipment (GUE) site, the Porter Electric and Machine Company (PE) site, and the U.S. Transformer (UST) site. The University also burned discarded laboratory chemicals in a burn pit area on the Site.

The University and the MPCA signed a Response Action Agreement on May 30, 1985, under the Minnesota Environmental Response and Liability Act (MERLA) for the cleanup of the UMRRC Site groundwater and soil. In December 1987, the UMRRC Site was placed on the National Priority List. Remedial Investigation (RI) activities were conducted under the Agreement from 1984 through 1988.

The RI determined that soil and concrete at all three disposal sites were contaminated by polychlorinated biphenyls (PCBs). In addition, the GUE site was also found to be contaminated with lead and copper. PCBs in the soil were as high as 63,000 parts per million (ppm) and lead was as high as 40,000 ppm. Groundwater at the site was found to be contaminated with chloroform from the burn pit area. The highest concentration of chloroform found was 72 parts per billion (ppb) in a monitoring well one mile from the burn pit.

The GUE site was used as an electrical storage and salvage facility, as well as a general salvage facility between 1968 and 1985. Activities at this site resulted in soil and concrete contamination by lead and PCBs. The PE site was used for storage and reconditioning of used industrial electrical equipment. Soil at this site is contaminated with PCBs. The UST site was used for dismantling and salvaging electrical transformers. Soil and concrete at the UST site was contaminated with PCBs.

After reviewing the results of the RI/Feasibility Study (FS), the MPCA completed a ROD on June 11, 1990; EPA concurred with the ROD on June 29, 1990. The selected remedy had five major components:

1. Excavating approximately 6,500 cubic yards of soil and concrete contaminated with greater than 25 ppm PCBs and approximately 2,600 cubic yards of soil contaminated with copper and lead where the soil exceed 1,000 ppm lead;

2. Consolidating approximately 15,000 cubic yards of soil from the three disposal sites contaminated with PCBs which ranged in concentration from 10 to 25 ppm PCBs at GUE and restricting access;

3. Thermally destroying the PCBs in the soil and concrete;

4. Transporting the soil contaminated with lead and copper to an off-site Resource Conservation and Recovery Act (RCRA)-permitted landfill; transporting lead contaminated soil which also contained PCBs to a Toxic Substances Control Agency (TSCA)/RCRA-permitted landfill; and

5. Backfilling with clean soil, grading and establishing vegetation.

The ROD also included a groundwater pump and treatment system for the chloroform contaminated groundwater. It should be noted that the groundwater pump and treatment system was in place and operating at the time the ROD was written. The pump and treatment system had already been completed by the University as a part of its response under the MERLA Response Action Agreement.

During July and August 1990, the University disposed of soil contaminated with lead and copper. The soil contaminated with lead and copper was disposed of at the Adams Center Landfill located in Ft. Wayne, Indiana, a RCRA-permitted landfill. Lead contaminated soil containing greater than 49 ppm PCBs was disposed of at the Chemical Waste Management, Inc., Landfill in Emelle, Alabama, a TSCA/RCRA-permitted landfill.

Based on a request from the University, the ROD was modified in August 1991 with the completion of an Explanation of Significant Difference (ESD) by the MPCA and EPA. The changes approved in the ESD were:

1. Allowing the University the option of using either on-site incineration or the previously approved alternative of thermal desorption to vaporize and destroy the PCB's;

2. Allowing the University to restrict access to the three disposal sites with soil PCB levels which ranged between 10 and 25 ppm PCBs rather than consolidating this soil; and

3. Requiring the University to perform a review of the effectiveness of the remedial action three years after completion of the remedy rather than three years after the approval of the remedial action clean-up plan.

In order to operate a thermal destruction unit in the State of Minnesota, the MPCA issued the University an “ Authorization to Install and Operate a Thermal Destruction Unit, University of Minnesota Rosemount Research Station,” (Authorization to Burn) on December 27, 1991. The Authorization to Burn was modified on February 3, 1992, and August 17, 1992. These modifications reduced the scope of the Authorization to Burn based on additional information received from the University and from Roy F. Weston, Inc. (Weston), the University's clean-up contractor.

The University chose to destroy the PCBs using the on-site incineration option. Weston began site activities on June 30, 1992; began incinerating contaminated soil at the Site in March 1993; and completed the thermal destruction of soil and concrete in July 1993.

The MPCA approved the shutdown of the pump and treatment system on October 30, 1991. This was in part due to the Minnesota Department of Health (MDH) changing its Recommended Allowable Limit (RAL) for chloroform from 5 to 57 ppb. The groundwater was also found to meet other state groundwater drinking water criteria.

On June 1, 1993, the University requested that it be allowed to consolidate PCB contaminated soil which ranged between 10 and 25 ppm at GUE as originally described in the ROD. The University decided that it was now more feasible to consolidate the soil than was envisioned at the time of the first ESD. The ESD also indicated that all remaining soil contaminated with one to 10 ppm PCBs will be covered with 10 inches of clean fill in order to comply with the TSCA PCB Spill Policy and to provide unrestricted access to these areas. The MPCA prepared a second ESD to address these changes and EPA concurred with the ESD on October 1, 1993.

On September 24, 1993, the EPA and the MPCA performed the preliminary site inspection. At that time, the remedy was substantially complete with the exception of consolidating a small amount of soil into the GUE depression and also transporting a small quantity of soil to an off-site landfill. A final site inspection was conducted on September 20, 1994, and all construction activities were found to be completed.

V. Action

The remedy selected for this Site has been implemented in accordance with the Record of Decision and subsequent Explanation of Significant Difference. The remedy has resulted in the significant reduction of the long-term potential for release of contaminants, therefore, human health and potential environmental impacts have been minimized. EPA and the State of Minnesota find that the remedies implemented continue to provide adequate protection of human health the environment.

The MPCA concurs with EPA that the criteria for deletion of releases have been met. Therefore, EPA is deleting the Site from the NPL.

This action will be effective February 6, 2001. However, if EPA receives dissenting comments by January 8, 2001, EPA will publish a document that withdraws this action.

List of Subjects in 40 CFR Part 300

Environmental protection, Air pollution control, Chemicals, Hazardous substances, Hazardous waste, Intergovernmental relations, Penalties, Reporting and recordkeeping requirements, Superfund, Water pollution control, Water supply.

Dated: November 28, 2000.
Elissa Speizman,
Acting Regional Administrator, EPA, Region 5.

Part 300, title 40 of chapter 1 of the Code of Federal Regulations is amended as follows:

Part 300—[AMENDED]

1. The authority citation for part 300 continues to read as follows:

Authority: 33 U.S.C. 1321(c)(2); 42 U.S.C. 9601-9657; E.O. 12777, 56 FR 54757, 3 CFR., 1991 Comp.; p.351; E.O. 12580, 52 FR 2923, 3 CFR, 1987 Comp.; p.193.

Appendix B—[Amended]

2. Table 1 of appendix B to Part 300 is amended by removing the site for “University of Minnesota Rosemount, Res Cen, Rosemount, Minnesota.”

[FR Doc. 00-31191 Filed 12-7-00; 8:45 am]

BILLING CODE 6560-50-P